DEPARTMENT OF DEFENSE

Office of the Secretary

U.S. Nuclear Command and Control System Comprehensive Review Advisory Committee

AGENCY: Department of Defense.

ACTION: Notice of meeting.

SUMMARY: On November 17, 2008 (73 FR 67841-67842), the Department of Defense announced a closed meeting of the U.S. Nuclear Command and Control System Comprehensive Review Advisory Committee. The notice is being published to provide a change in the meeting location. All other information remains the same.

DATES: December 3, 2008 (0830-1630) and December 4, 2008 (0830-1700).

ADDRESSES: Northrop Grumman Meeting Facility, 1000 Wilson Blvd., Arlington, VA.

FOR FURTHER INFORMATION CONTACT: Mr. William L. Jones, (703) 681-8681, U.S. Nuclear Command and Control System Support Staff (NSS), Skyline 3, 5201 Leesburg Pike, Suite 500, Falls Church, Virginia 22041.

Dated: November 19, 2008.
Patricia L. Toppings,
OSD Federal Register Liaison Officer, Department of Defense.

[FR Doc. E8-28147 Filed 11-25-08; 8:45 am]

BILLING CODE 5001-06-P